DEPARTMENT OF HEALTH AND HUMAN SERVICES

Health Care Financing Administration

[HCFA-3432-N5]

Medicare Program; Postponement of Open Town Hall Meeting to Discuss Criteria for Making Coverage Decisions from August 31, 2000 to September 13, 2000

AGENCY: Health Care Financing Administration (HCFA), HHS.

ACTION: Notice of meeting postponement.

SUMMARY: This notice announces the postponement of the August 31, 2000 town hall meeting to discuss the criteria for making a coverage decision under the Medicare program. This meeting is rescheduled for September 13, 2000.

DATES: September 13, 2000, from 9 a.m. until 12 noon, E.D.T.

ADDRESSES: The meeting will be held at the HCFA headquarters auditorium, 7500 Security Boulevard, Baltimore, Maryland 21244.

FOR FURTHER INFORMATION CONTACT: Patricia Brocato-Simons at 410-786-0261.

SUPPLEMENTARY INFORMATION: On August 17, 2000, we published a notice in the Federal Register (65 FR 50171) that announced the town hall meeting for interested parties to discuss criteria we would use to make certain national coverage decisions under the Medicare program. (The August notice provides specific information on the purpose of this meeting. This information remains the same and has not been changed). We wish to allow an additional opportunity to obtain input from the public on the criteria we would use to make Medicare national coverage decisions. Our intent was to hold a town hall meeting promptly to facilitate our efforts to issue a proposed rule. We received, however, comments and requests to delay the town hall meeting to give the public more time to prepare for the meeting. We have rescheduled the open town hall meeting from August 31, 2000 to September 13, 2000.

Authority: Sections 1102 and 1871 of the Act (42 U.S.C. 1302 and 1395hh).

(Catalog of Federal Domestic Assistance Program No. 98.773, Medicare-Hospital Insurance; and Program No. 93.774, Medicare-Supplementary Medicare Insurance Program.)
Dated: August 24, 2000.
Nancy-Ann Min DeParle,
Administrator, Health Care Financing Administration.

[FR Doc. 00-22064 Filed 8-28-00; 8:45 am]

BILLING CODE 4120-01-P